DEPARTMENT OF TRANSPORTATION

Federal Aviation Administration

14 CFR Part 39

[Docket No. FAA-2015-2455; Directorate Identifier 2014-NM-180-AD; Amendment 39-18415; AD 2016-04-21]

RIN 2120-AA64

Airworthiness Directives; The Boeing Company Airplanes

AGENCY: Federal Aviation Administration (FAA), DOT.

ACTION: Final rule.

SUMMARY: We are superseding Airworthiness Directive (AD) 2008-26-07 for all The Boeing Company Model DC-8-11, DC-8-12, DC-8-21, DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. AD 2008-26-07 required repetitive inspections of the lower skin and stringers at certain stations, and corrective actions if necessary. This new AD continues to require the actions specified in AD 2008-26-07 and also requires an eddy current high frequency (ETHF) inspection for cracks of the fastener open holes common to the lower skins, stringers, and splice fittings at a certain station; installation of external doublers and fasteners and repetitive eddy current low frequency (ETLF) inspections around the fasteners for any crack; and corrective actions if necessary. This AD was prompted by certain mandated programs intended to support the airplane reaching its limit of validity of the engineering data that support the established structural maintenance program. We are issuing this AD to detect and correct cracks in the lower skins, stringers, and fastener holes of the splice fittings, which could result in the loss of structural integrity of the airplane.

DATES: This AD is effective April 5, 2016.

The Director of the Federal Register approved the incorporation by reference of a certain publication listed in this AD as of April 5, 2016.

The Director of the Federal Register approved the incorporation by reference of a certain other publication listed in this AD as of January 28, 2009 (73 FR 78946, December 24, 2008).

ADDRESSES: For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-2455.

Examining the AD Docket

You may examine the AD docket on the Internet at http://www.regulations.gov by searching for and locating Docket No. FAA-2015-2455; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Chandra Ramdoss, Aerospace Engineer, Airframe Branch, ANM-120L, FAA, Los Angeles Aircraft Certification Office (ACO), 3960 Paramount Boulevard, Lakewood, CA 90712-4137; telephone: 562-627-5239; fax: 562-627-5210; email: Chandraduth.Ramdoss@faa.gov.

SUPPLEMENTARY INFORMATION:

Discussion

We issued a notice of proposed rulemaking (NPRM) to amend 14 CFR part 39 to supersede AD 2008-26-07, Amendment 39-15773 (73 FR 78946, December 24, 2008), (“AD 2008-26-07”). AD 2008-26-07 applied to all McDonnell Douglas Model DC-8-11, DC-8-12, DC-8-21, DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. The NPRM published in the Federal Register on July 2, 2015 (80 FR 38038) (“the NPRM”). The NPRM was prompted by certain mandated programs intended to support the airplane reaching its limit of validity of the engineering data that support the established structural maintenance program. The NPRM proposed to continue to require the actions specified in AD 2008-26-07 and also to require an ETHF inspection for cracks of the fastener open holes common to the lower skins, stringers, and splice fittings at a certain station; installation of external doublers and fasteners and repetitive ETLF inspections around the fasteners for any crack; and corrective actions if necessary. We are issuing this AD to detect and correct cracks in the lower skins, stringers, and fastener holes of the splice fittings, which could result in the loss of structural integrity of the airplane.

Comments

We gave the public the opportunity to participate in developing this AD. The following presents the comment received on the NPRM and the FAA's response to the comment.

Request To Clarify the Actions in Paragraph (j)(1) of the Proposed AD

Boeing requested that we clarify paragraph (j)(1) of the proposed AD. Boeing stated that paragraph (j)(1) of the proposed AD does not specify what to inspect or how to inspect. Boeing recommended that a description similar to that of paragraph (j)(2) of the proposed AD be included in paragraph (j)(1) of the proposed AD.

We agree with the request to clarify the inspection requirements. Paragraph (j)(l) of the AD is for airplanes that have previous structural repairs at the lower skins, stringers, and splice. For those airplanes, because the details of the configuration are not known, a specific description of the area to be inspected cannot be given. Paragraph (j)(2) of this AD provides specific inspections for certain airplanes because those inspections are described in Boeing Service Bulletin DC8-57-104, dated August 18, 2014. However, that service information does not provide specific inspection areas for airplanes identified in paragraph (j)(1) of this AD. Therefore, for the inspection and applicable corrective actions, paragraph (j)(1) of this AD requires that the operator use a method approved in the accordance with the procedures specified in paragraph (m) of this AD. We have revised paragraph (j)(1) of this AD to specify the general inspection area, which includes the lower skins, stringers, and splice fittings.

Clarification of Actions Specified in Paragraph (k) of This AD.

Paragraph (k) of the NPRM referred to Boeing Service Bulletin DC8-57-104, dated August 18, 2014, for the compliance times for the actions required by that paragraph but did not include a reference for the installation and inspections required by paragraph (k) of this AD. We have revised paragraph (k) of this AD to refer to Boeing Service Bulletin DC8-57-104, dated August 18, 2014, as the appropriate source of service information for accomplishing the installation and inspections.

Conclusion

We reviewed the relevant data and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Service Bulletin DC8-57-104, dated August 18, 2014. The service information describes procedures for certain airplanes for an ETHF inspection for cracks of the fastener open holes common to the lower skins, stringers, and splice fittings at a certain station; installation of external doublers and fasteners and repetitive ETLF inspections around the fasteners for any crack; and corrective actions. This service information is reasonably available because the interested parties have access to it through their normal course of business or by the means identified in the ADDRESSES section.

Costs of Compliance

We estimate that this AD affects 12 airplanes of U.S. registry.

We estimate the following costs to comply with this AD:

Estimated Costs
Action | Labor cost | Parts cost | Cost per product | Cost on U.S. operators
Inspection [retained actions from AD 2008-26-07, Amendment 39-15773 (73 FR 78946, December 24, 2008)] | 6 work-hours × $85 per hour = $510 per inspection cycle | $0 | $510 | $6,120 per inspection cycle.
ETHF Inspection [new action] | 8 work-hours × $85 per hour = $680 per inspection cycle | $0 | $680 | $8,160 per inspection cycle.

We estimate the following costs to do any necessary certain follow-on actions that would be required based on the results of the inspection. We have no way of determining the number of aircraft that might need these actions:

On-Condition Costs
Action | Labor cost | Parts cost | Cost per product
Installation of External Doubler | 5 work-hour × $85 per hour = $425 | $20,000 | $20,425.
Repetitive ETLF inspection | 8 work-hour × $85 per hour = $680 per inspection cycle | $0 | $680 per inspection cycle.

For all actions and repairs on Groups 1-3, Configuration 1 Airplanes, we have received no definitive data that would enable us to provide cost estimates for the on-condition actions specified in this AD.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-26-07, Amendment 39-15773 (73 FR 78946, December 24, 2008), and adding the following new AD:

2016-04-21 The Boeing Company: Amendment 39-18415; Docket No. FAA-2015-2455; Directorate Identifier 2014-NM-180-AD.

(a) Effective Date

This AD is effective April 5, 2016.

(b) Affected ADs

This AD replaces AD 2008-26-07, Amendment 39-15773 (73 FR 78946, December 24, 2008).

(c) Applicability

This AD applies to all The Boeing Company Model DC-8-11, DC-8-12, DC-8-21, DC-8-31, DC-8-32, DC-8-33, DC-8-41, DC-8-42, DC-8-43, DC-8-51, DC-8-52, DC-8-53, DC-8-55, DC-8F-54, DC-8F-55, DC-8-61, DC-8-62, DC-8-63, DC-8-61F, DC-8-62F, DC-8-63F, DC-8-71, DC-8-72, DC-8-73, DC-8-71F, DC-8-72F, and DC-8-73F airplanes; certificated in any category.

(d) Subject

Air Transport Association (ATA) of America Code 57, Wings.

(e) Unsafe Condition

This AD was prompted by certain mandated programs intended to support the airplane reaching its limit of validity of the engineering data that support the established structural maintenance program. We are issuing this AD to detect and correct cracks in the lower skins, stringers, and fastener holes of the splice fittings, which could result in the loss of structural integrity of the airplane.

(f) Compliance

Comply with this AD within the compliance times specified, unless already done.

(g) Retained Repetitive Inspections With No Changes

This paragraph restates the requirements of paragraph (f) of AD 2008-26-07, Amendment 39-15773 (73 FR 78946, December 24, 2008), with no changes. At the times specified in paragraph 1.E., “Compliance,” of Boeing Alert Service Bulletin DC8-57A102, dated February 12, 2008, except as provided by paragraph (h) of this AD, do the applicable inspections for fatigue cracking of the lower skin and stringers at stations Xw = 408 and Xw = −408, and do all applicable corrective actions, by accomplishing all applicable actions specified in the Accomplishment Instructions of Boeing Alert Service Bulletin DC8-57A102, dated February 12, 2008. Do all corrective actions before further flight. Thereafter, repeat the inspections at the applicable intervals specified in paragraph 1.E., “Compliance,” of Boeing Alert Service Bulletin DC8-57A102, dated February 12, 2008, until paragraph (j) of this AD is done.

(h) Retained Exception for Compliance Time With No Changes

This paragraph restates the exception specified in paragraph (g) of AD 2008-26-07, Amendment 39-15773 (73 FR 78946, December 24, 2008), with no changes. Where Boeing Alert Service Bulletin DC8-57A102, dated February 12, 2008, specifies a compliance time “after the date on this service bulletin,” this AD requires compliance within the specified compliance time after January 28, 2009 (the effective date of AD 2008-26-07).

(i) Retained Exception for Corrective Action With No Changes

This paragraph restates the exception specified in paragraph (h) of AD 2008-26-07, Amendment 39-15773 (73 FR 78946, December 24, 2008), with no changes. If any cracking is found during any inspection required by paragraph (g) of this AD, and Boeing Alert Service Bulletin DC8-57A102, dated February 12, 2008, specifies to contact Boeing for appropriate action: Before further flight, repair the cracking using a method approved in accordance with the procedures specified in paragraph (m) of this AD.

(j) New Inspections and Corrective Action

(1) For Groups 1-3, Configuration 1 airplanes identified in Boeing Service Bulletin DC8-57-104, dated August 18, 2014: At the applicable time specified in paragraph 1.E., “Compliance,” of Boeing Service Bulletin DC8-57-104, dated August 18, 2014, except as required in paragraph (l) of this AD, do an inspection for any cracking of the lower skins, stringers, and splice fittings, and do all applicable corrective actions, using a method approved in accordance with the procedures specified in paragraph (m) of this AD.

(2) For Groups 1-3, Configuration 2 airplanes identified in Boeing Service Bulletin DC8-57-104, dated August 18, 2014: At the applicable time specified in paragraph 1.E., “Compliance,” of Boeing Service Bulletin DC8-57-104, dated August 18, 2014, except as required in paragraph (l) of this AD, do an eddy current high frequency (ETHF) inspection for any cracking of the fastener open holes common to the lower skins, stringers, and splice fittings at station Xw = 408 and Xw = −408 from stringer 51 to stringer 65, in accordance with the Accomplishment Instructions of Boeing Service Bulletin DC8-57-104, dated August 18, 2014. If any cracking is found, before further flight, repair the crack using a method approved in accordance with the procedures specified in paragraph (m) of this AD.

(k) New Doubler and Fastener Installation and Eddy Current Low Frequency (ETLF) Inspection of the External Doubler and Corrective Action

If no crack is found during the inspection required by paragraph (j)(2) of this AD: At the applicable times specified in paragraph 1.E., “Compliance,” of Boeing Service Bulletin DC8-57-104, dated August 18, 2014, install external doublers and fasteners, and do an external doubler ETLF inspection around the fasteners for any cracking, in accordance with the Accomplishment Instructions of Boeing Service Bulletin DC8-57-104, dated August 18, 2014. Repeat the external ETLF inspection at the applicable intervals specified in 1.E., “Compliance,” of Boeing Service Bulletin DC8-57-104, dated August 18, 2014. If any cracking is found during any ETLF inspection required by this paragraph, before further flight, repair the crack using a method approved in accordance with the procedures specified in paragraph (m) of this AD.

(l) Exception to the Compliance Time

Where Boeing Service Bulletin DC8-57-104, dated August 18, 2014, specifies a compliance time “after the original issue date of this service bulletin,” this AD requires compliance within the specified compliance time after the effective date of this AD.

(m) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n) of this AD. Information may be emailed to 9-ANM-LAACO-AMOC-REQUESTS@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(4) AMOCs approved for AD 2008-26-07, Amendment 39-15773 (73 FR 78946, December 24, 2008), are approved as AMOCs for the corresponding provisions of this AD.

(5) Except as required by paragraphs (j) and (k) of this AD: For service information that contains steps that are labeled as Required for Compliance (RC), the provisions of paragraphs (m)(5)(i) and (m)(5)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

For more information about this AD, contact Chandra Ramdoss, Aerospace Engineer, Airframe Branch, ANM-120L, FAA, Los Angeles ACO, 3960 Paramount Boulevard, Lakewood, CA 90712-4137; telephone: 562-627-5239; fax: 562-627-5210; email: Chandraduth.Ramdos@faa.gov.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 5, 2016.

(i) Boeing Service Bulletin DC8-57-104, dated August 18, 2014.

(ii) Reserved.

(4) The following service information was approved for IBR on January 28, 2009 (73 FR 78946, December 24, 2008).

(i) Boeing Alert Service Bulletin DC8-57A102, dated February 12, 2008.

(ii) Reserved.

(5) For Boeing service information identified in this AD, contact Boeing Commercial Airplanes, Attention: Data & Services Management, 3855 Lakewood Boulevard, MC D800-0019, Long Beach, CA 90846-0001; telephone 206-544-5000, extension 2; fax 206-766-5683; Internet https://www.myboeingfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on February 15, 2016.
Michael Kaszycki,
Acting Manager, Transport Airplane Directorate, Aircraft Certification Service.

[FR Doc. 2016-04035 Filed 2-29-16; 8:45 am]

BILLING CODE 4910-13-P